RAILROAD RETIREMENT BOARD

Privacy Act of 1974, as amended; Notice of Computer Matching Program (Railroad Retirement Board and Commercial Employment Verification Providers)

AGENCY: Railroad Retirement Board (RRB).

ACTION: Notice of creating a new computer-matching program with commercial employment verification providers.

SUMMARY: As required by the Privacy Act of 1974, as amended, the RRB is issuing public notice of its intent to create a new computer-matching program with commercial employment verification providers. The purpose of this notice is to advise individuals applying for or receiving benefits under the Railroad Retirement Act and/or the Railroad Unemployment Insurance Act to use information obtained from these providers to verify eligibility for benefits.

DATES: This matching program becomes effective as proposed without further notice on October 19, 2015. We will file a report of this computer-matching program with the Committee on Homeland Security and Governmental Affairs of the Senate; the Committee on Oversight and Government Reform of the House of Representatives; and the Office of Information and Regulatory Affairs, Office of Management and Budget (OMB).

ADDRESSES: Interested parties may comment on this publication by writing to Ms. Martha P. Rico, Secretary to the Board, Railroad Retirement Board, 844 North Rush Street, Chicago, Illinois 60611-2092.

FOR FURTHER INFORMATION CONTACT: Mr. Timothy Grant, Chief Privacy Officer, Railroad Retirement Board, 844 North Rush Street, Chicago, Illinois 60611-2092, telephone 312-751-4869 or email at tim.grant@rrb.gov.

SUPPLEMENTARY INFORMATION:

A. General

The Privacy Act of 1974, (5 U.S.C. 552a) as amended by the Computer Matching and Privacy Protection Act of 1988, (Pub. L. 100-503), requires a Federal agency participating in a computer matching program to publish a notice in the Federal Register for all matching programs.

The Privacy Act, as amended, regulates the use of computer matching by Federal agencies when records contained in a Privacy Act System of Records are matched with other Federal or non-Federal agency records. It requires Federal agencies involved in computer matching programs to:

(1) Negotiate written agreements with the other agency or agencies participating in the matching programs;

(2) Obtain the approval of the matching agreement by the Data Integrity Boards (DIB) of the participating Federal agencies;

(3) Publish notice of the computer matching program in the Federal Register;

(4) Furnish detailed reports about matching programs to Congress and OMB;

(5) Notify applicants and beneficiaries that their records are subject to matching; and

(6) Verify match findings before reducing, suspending, terminating, or denying a person's benefits or payments.

B. RRB Computer Matches Subject to the Privacy Act

We have taken appropriate action to ensure that this computer matching program complies with the requirements of the Privacy Act, as amended.

Notice of Computer Matching Program: RRB and Commercial Employment Verification Providers

A. Name of Participating Agencies

Railroad Retirement Board (RRB) and Commercial Employment Verification Providers.

B. Purpose of the Matching Program

The purpose of the RRB conducting matches with commercial employment verification providers is to ensure beneficiaries applying for and/or receiving benefits are entitled to them. We will conduct two types of matches. The first match will be daily online queries submitted when individuals apply for benefits under either the Railroad Retirement Act (RRA) or the Railroad Unemployment Insurance Act (RUIA). The second match will be batch processing (frequency to be determined) of those individuals who have applied for, or are receiving RRA or RUIA benefits.

C. Authority for Conducting the Match

The Railroad Retirement Board is authorized by the Railroad Retirement Act (RRA) of 1974, 45 U.S.C. 231(f), et. seq. and the Railroad Unemployment Insurance Act (RUIA), 45 U.S.C. 362, et. seq. to administer these benefit programs by paying benefits only to qualified beneficiaries.

D. Categories of Records and Individuals Covered

The RRB will provide a list of beneficiary social security numbers to the commercial employment verification provider to conduct the match. If there is a match, the commercial employment verification provider will notify the RRB with earnings and employment related information, specifically: Matched employees name, employer information (name, address, and identification number), and employer reported earnings.

The applicable RRB Privacy Act Systems of Records and their Federal Register citation used in the matching program are:

1. RRB-21, Railroad Unemployment and Sickness Insurance Benefit Systems; 80 FR 28016 (May 15, 2015), and

2. RRB-22, Railroad Retirement, Survivor, Pensioner Benefit System; 80 FR 28018 (May 15, 2015).

E. Inclusive Dates of the Matching Program

This matching program will become effective October 19, 2015. or 40 days after approval of the agreement, by the RRB DIB, is sent to Congress and the OMB, whichever date is later. The matching program will continue for 18 months after the effective date and may be extended for an additional 12 months, if the conditions specified in 5 U.S.C. 552a(o)(2)(D) have been met.

Dated: September 3, 2015.
By authority of the Board.
Martha P. Rico,
Secretary to the Board.

[FR Doc. 2015-22640 Filed 9-8-15; 8:45 am]

BILLING CODE 7905-01-P